NUCLEAR REGULATORY COMMISSION

[Docket No. 50-413]

Duke Energy Corporation; Notice of Withdrawal of Application for Amendment to Facility Operating License

The U.S. Nuclear Regulatory Commission (the Commission) has granted the request of Duke Energy Corporation (the licensee) to withdraw its October 15, 2003, application for proposed amendment to Facility Operating License No. NPF-35 for the Catawba Nuclear Station, Unit No. 1, located in York County, South Carolina.

The proposed amendment would have revised the Technical Specifications to allow the continued operation of Catawba Unit 1 with only one fully-operable train of the Containment Spray System until midnight on November 9, 2003.

The Commission had previously issued a Notice of Consideration of Issuance of Amendment published in the The Herald newspaper on October 19, 20 and 21, 2003, and the Charlotte Observer newspaper on October 20 and 21, 2003. However, by letter dated October 22, 2003, the licensee withdrew the proposed change.

For further details with respect to this action, see the application for amendment dated October 15, 2003, and the licensee's letter dated October 22, 2003, which withdrew the application for license amendment. Documents may be examined, and/or copied for a fee, at the NRC's Public Document Room (PDR), located at One White Flint North, Public File Area O1F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 24th day of October 2003.
For the Nuclear Regulatory Commission.
Sean E. Peters,
Project Manager, Section 1, Project Directorate II, Division of Licensing Project Management, Office of Nuclear Reactor Regulation.

[FR Doc. 03-27800 Filed 11-4-03; 8:45 am]

BILLING CODE 7590-01-P